DEPARTMENT OF THE INTERIOR

[MT-920-01-1310-FI-P; NDM 89510, NDM 89511]

Notice of Proposed Reinstatement of Terminated Oil and Gas Leases

AGENCY: Bureau of Land Management, Interior.

ACTION: Notice.

SUMMARY: Per Public Law 97-451, the lessee timely filed a petition for reinstatement of oil and gas leases NDM 89510 and NDM 89511, Billings County, North Dakota. The lessee paid the required rentals accruing from the date of termination.

We haven't issued any leases affecting the lands. The lessee agrees to new lease terms for rentals and royalties of $10 per acre and 16 percent or 4 percentages above the existing competitive royalty rate. The lessee paid the $500 administration fee for the reinstatement of the leases and $148 cost for publishing this Notice.

The lessee met the requirements for reinstatement of the leases per Sec. 31 (d) and (e) of the Mineral Leasing Act of 1920 (30 U.S.C. 188). We are proposing to reinstate the leases, effective the date of termination subject to:

• The original terms and conditions of the leases;

• The increased rental of $10 per acre;

• The increased royalty of 16⅔ percent or 4 percentages above the existing competitive royalty rate; and

• The $148 cost of publishing this Notice

FOR FURTHER INFORMATION CONTACT: Karen L. Johnson, Chief, Fluids Adjudication Section, BLM Montana State Office, PO Box 36800, Billings, Montana 59107, 406-896-5098.

Dated: March 8, 2001.
Karen L. Johnson,
Chief, Fluids Adjudication Section.

[FR Doc. 01-7052 Filed 3-20-01; 8:45 am]

BILLING CODE 4310-$$-P